DEPARTMENT OF COMMERCE

National Oceanic and Atmospheric Administration

RIN 0648-XP18

Marine Mammals; File Nos. 14324 through 14337, except 14333

AGENCY: National Marine Fisheries Service (NMFS), National Oceanic and Atmospheric Administration (NOAA), Commerce.

ACTION: Notice; receipt of applications.

SUMMARY: Notice is hereby given that the following institutions, organizations, and individuals have applied for permits to conduct research on Steller sea lions (Eumetopias jubatus) and northern fur seals (Callorhinus ursinus): Alaska SeaLife Center (ASLC), Seward, AK; Alaska Department of Fish and Game (ADF&G), Division of Wildlife Conservation, Juneau, Alaska; NMFS National Marine Mammal Laboratory (NMML), Seattle, WA; North Pacific Universities Marine Mammal Research Consortium (NPUMMRC), University of British Columbia, Vancouver, B.C., Canada; Aleut Community of St. Paul Island (ACSPI), Tribal Government, Ecosystem Conservation Office, St. Paul Island, AK; Aleut Community of St. George Island (ACSGI), St. George Traditional Council, St. George Island, AK; and Markus Horning, Ph.D., Marine Mammal Institute, Oregon State University, Newport, OR.

DATES: Written, telefaxed, or e-mail comments must be received on or before June 29, 2009.

ADDRESSES: The applications and related documents are available for review by selecting “Records Open for Public Comment” from the Features box on the Applications and Permits for Protected Species (APPS) home page, https://apps.nmfs.noaa.gov, and then selecting the applicable File No. from the list of available applications.

These documents are also available upon written request or by appointment in the following office(s):

Permits, Conservation and Education Division, Office of Protected Resources, NMFS, 1315 East-West Highway, Room 13705, Silver Spring, MD 20910; phone (301) 713-2289; fax (301) 427-2521;

Northwest Region, NMFS, 7600 Sand Point Way NE, BIN C15700, Bldg. 1, Seattle, WA 98115-0700; phone (206) 526-6150; fax (206) 526-6426;

Alaska Region, NMFS, P.O. Box 21668, Juneau, AK 99802-1668; phone (907) 586-7221; fax (907) 586-7249; and

Southwest Region, NMFS, 501 West Ocean Blvd., Suite 4200, Long Beach, CA 90802-4213; phone (562) 980-4001; fax (562) 980-4018.

Written comments on these applications should be mailed to the Chief, Permits, Conservation and Education Division at the address listed above. Comments may also be submitted by facsimile to (301) 427-2521, or by email to NMFS.Pr1Comments@noaa.gov. Please include the applicable File No. in the subject line of the e-mail comment.

Those individuals requesting a public hearing should submit a written request to the Chief, Permits, Conservation and Education Division at the address listed above. The request should set forth the specific reasons why a hearing on a particular application would be appropriate.

FOR FURTHER INFORMATION CONTACT: Tammy Adams, Kate Swails, or Amy Sloan, (301) 713-2289.

SUPPLEMENTARY INFORMATION: The subject permits are requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR 222-226), and the Fur Seal Act of 1966, as amended (16 U.S.C. 1151 et seq.). The following are brief summaries of the applications. For details, please review the actual permit applications, available on-line or by written request (see ADDRESSES).

File No. 14324: The applicant, ASLC, (Principal Investigator: John Maniscalco), requests a five-year permit to investigate causes for the Steller sea lion population decline and determine what is currently limiting its recovery. Research would involve (maximum number of animals per year in parentheses): disturbance associated with capture, observational studies, and material/scat/carcass collection (8,500); capture, restraint, and sampling (200); and remote biopsy (150). Captured sea lions would undergo morphometrics measurement; blood and tissue collection; digital imaging; hot-branding; body condition measurement; whisker, hair, and milk sampling; temporary marking; and ultrasound exams. Research would occur in the Gulf of Alaska and Aleutian Islands, on Steller sea lions of the western Distinct Population Segment (DPS). The applicant also requests authorization for annual unintentional mortality of 1 Steller sea lion from the western DPS.

File No. 14325: The applicant, ADF&G, (Principal Investigator: Lorrie Rea, Ph.D.), requests a five-year permit to continue a long-term research program investigating the various hypotheses for the decline or lack of recovery of Steller sea lions in AK. Research would involve (maximum number of animals per year in parentheses): incidental disturbance during aerial surveys (20,000 eastern DPS); disturbance of animals on rookeries and haulouts during brand resighting surveys (30,000 eastern DPS, 8,000 western DPS) and incidental to scat collection, capture for instrument attachment, capture for branding, capture method development, physiological research and sample collection (83,700 eastern DPS, and 8,700 western DPS); permanent marking of pups for long-term demographic and distribution studies (800), capture of older animals (20 western DPS, 60 eastern DPS) for physiological assessment and attachment of scientific instruments to investigate foraging ecology, diving behavior and habitat use. An additional 200 animals of any age may be instrumented without capture (150 eastern DPS, 50 western DPS). The applicant also requests authorization for annual unintentional mortality of 5 Steller sea lions from the western DPS and 10 Steller sea lions from the eastern DPS. Harbor seals (Phoca vitulina richardsi), northern fur seals, and California sea lions (Zalophus californianus) may be disturbed incidentally during the course of this research

File No. 14326: The applicant, NMML, (Principal Investigator: Tom Gelatt, Ph.D.), requests a five-year permit to measure population status, vital rates, foraging ecology, habitat requirements, and effects of natural and anthropogenic factors for Steller sea lion in the North Pacific Ocean, including rookeries and haulouts in CA, OR, WA, and AK. Annually in the western DPS, up to 59,500 sea lions may be exposed to aerial surveys, 1,000-6,520 to rookery-based activities, and 12,700 to other incidental activities. Up to 600 Steller sea lions could be captured, with up to 190 having blood, skin, and swab samples collected, 250 hot-branded, and up to 50 blubber and lesion biopsied, vibrissa removed, and subject to stomach intubation. Instruments would be attached on up to 50, and 50 would receive a non-permanent mark if not hot-branded. Annually in the eastern DPS, up to 27,800 may be exposed to aerial surveys, and 13,100 to incidental activities. Up to 220 could be captured, and have blood, skin, blubber, fecal, and culture samples collected, a vibrissa removed, hot-brand, tag or non-permanent mark applied, and have an instrument attached. Non-target species that may be harassed incidental to Steller sea lion research include northern fur seals in AK, California sea lions and northern elephant seals (Mirounga angustrirostris) in WA, OR, and CA, and harbor seals (P. vitulina) in all states.

File No. 14327: The applicant, NMML, (Principal Investigator: Rolf Ream, Ph.D.), requests a five-year permit to investigate population status and trends, demographic parameters, health and condition, and foraging ecology of northern fur seals in U.S. waters, including rookeries and haulouts in CA and AK. Research on the San Miguel Island stock would involve (maximum number of animals per year in parentheses): capture, restraint, and sampling (700) and incidental disturbance (35,725). Research on the Eastern Pacific stock would involve (maximum number of animals per year in parentheses): capture, restraint and sampling (22,820 in 3 of 5 years; 9,320 in 2 of 5 years) and incidental disturbance (355,125 in 3 of 5 years; 156,000 in 2 of 5 years). The applicant requests authorization for research-related mortality of 7 animals per year from the San Miguel Island Stock and 11 animals per year from the Eastern Pacific stock. The applicant also requests authorization for incidental harassment of 150 western DPS Steller sea lions and 18,700 California sea lions annually.

File No. 14328: The applicant, ASLC, (Principal Investigator: Alan Springer, Ph.D.), requests a five-year permit to characterize the winter habitat, movement patterns, diets and general health of adult male northern fur seals in the Bering Sea and northern North Pacific Ocean. Annually, up to 5 animals in AK would be captured, satellite tagged, blubber biopsied, blood sampled, and a vibrissa would be pulled for stable isotope analysis. Up to 200 northern fur seals in AK may be incidentally harassed during the research activities. The applicant requests authorization for 1 research-related mortality per year.

File No. 14329: The applicant, NPUMMRC, (Principal Investigator: Andrew Trites, Ph.D.) requests a five-year permit to test hypotheses that might explain the decline of northern fur seals in AK and offer solutions for recovery. The proposed research includes studies on foraging ecology, demographics, behavior, and changes in body size. The applicant also proposes to complete a pilot study to determine the feasibility of branding as a viable marking method. Research activities would involve (maximum number of animals per year in parentheses): disturbance associated with capture, observational studies, and scat collection (39,130); and capture, restraint, tissue sampling, and marking (2,335). NPUMMRC requests authorization for the annual research-related mortality of 14 adult females, 8 juvenile males, and 24 pups. NPUMMRC also requests authorization for harassment of 600 western DPS Steller sea lions annually incidental to the research.

File No. 14330 and File No. 14331: The applicants, ACSPI (File No. 14330), (Principal Investigator: Phillip A. Zavadil), and ACSGI (File No. 14331), (Principal Investigator: Chris Merculief), request five-year permits to fulfill their Biosampling, Disentanglement, and Island Sentinel program responsibilities as established under the co-management agreement between NMFS and the Aleut Communities. Work by ACSPI would occur on St. Paul Island, AK and work by ACSGI would occur on St. George Island, AK. The applicants request authorization for incidental disturbance of up to 850 northern fur seals on St. Paul Island and 450 animals per year on St. George Island during the collection of biological samples from dead stranded and subsistence hunted marine mammals. These samples would be exported to researchers studying the decline of northern fur seals. Annually, up to 8,500 northern fur seals on St. Paul Island and 6,050 on St. George Island may be disturbed during disentanglement events. The Island Sentinel program may result in the disturbance of up to 3,400 northern fur seals per year on St. Paul Island and 9,000 animals on St. George Island during haulout and rookery observations, monitoring, and remote camera maintenance per year. Steller sea lions and harbor seals may be disturbed during the course of these activities.

File No. 14334: The applicant, ASLC, (Principal Investigator: Lori Polasek, Ph.D.), requests a five-year permit to investigate reproductive physiology of captive adult Steller sea lions (permanently captive eastern stock) and survival, growth, and physiology of captive-bred offspring. ASLC also proposes to deploy biotelemetry instruments on the captives to develop and validate methods for monitoring wild Steller sea lions. Research would be conducted on one adult male, up to four adult females, and up to six offspring, and would include the following activities: mass and morphometric measurements; ultrasound; capture, sedation, and anesthesia; blood sampling and administration of Evan's blue dye and deuterium oxide; feces, urine, semen, and milk collection; video/audio recordings; genital swabs; radiographs; dietary supplements; blubber biopsy; and attachment of biotelemetry instrumentation. ASLC also requests authorization to transfer to and import from approved North American facilities up to two male and four female Steller sea lions, not to exceed 11 animals held at ASLC for use in research. ASLC requests up to two research-related mortalities over the course of the permit. No research would occur on wild populations or affect non-target species.

File No. 14335: The applicant, ASLC, (Principal Investigator: JoAnn Mellish, Ph.D.), requests a five-year permit to investigate the decline of the western stock of Steller sea lions and its failure to recover, and to assist recovery efforts. Data would be obtained on juvenile survival, epidemiology, endocrinology, immunology, virology, physiology, ontogenetic and annual body condition cycles, foraging behavior and habitat selection. Up to 20 pups (8-11 months) and 32 juveniles (12-48 months) of both sexes may be captured per year, with a subset of up to 12 juveniles (12- 48 months) of both sexes selected for temporary quarantine captivity at the South Beach facility at the ASLC. Research activities would include capture/handle/release (floating trap, underwater lasso), drug administration (IM, IV, oral, subcutaneous, topical), anesthesia, temporary captivity, fecal and urine collection, instrument attachment (external and internal), marking, measuring, behavioral observations, photogrammetry, restraint, sampling (blood, blubber biopsy, clip hair, fecal swab, blubber and muscle biopsy, nasal swab, oral swab, skin biopsy, vibrissae pull, stable isotopes and serial blood samples), transport, ultrasound, unintentional mortality, weigh and x-ray. Up to 3,500 individuals of all ages, either sex, may be incidentally harassed annually. Two research-related mortalities per year are requested. The location of activities would include the Gulf of Alaska and the ASLC.

File No. 14336: The applicant, Dr. Horning, requests a five-year permit to determine survival rates, emigration, causes of mortality, predation, and collect long-term forage effort data, in juvenile eastern DPS sea lions, using surgically implanted scientific instruments called Life History Transmitters (LHX tags). Up to 50 pups and 50 juveniles of both sexes would be captured for sampling and LHX tag deployment at Hazy Islands and in Frederick Sound, AK annually (100 animals total per age class). LHX tags would also be opportunistically deployed in carcasses of dead Steller sea lions in AK, OR, and CA, and in California sea lions in OR and CA to assess uplink failure rates. Remote monitoring (using still, video, and infrared cameras) for censusing, brand re-sighting, attendance patterns, and estimating body mass, condition and health trends would be conducted at Long Island, AK and Sea Lion Caves and Cascade Head, OR. Up to 900 individuals of all ages and either sex in the western DPS and 8,800 in the eastern DPS of all ages may be incidentally harassed annually. The applicant also requests authorization for 5 research-related mortalities of eastern DPS animals per year.

File No. 14337: The applicant, NPUMMRC, (Principal Investigator: Andrew Trites, Ph.D.), requests a five-year permit to conduct studies of Steller sea lion diets, distributions, life history traits, physiology and the timing of weaning in AK. NPUMMRC also proposes to evaluate pain experienced by Steller sea lions during hot-iron branding conducted by researchers operating under separate permits. Research activities would involve (maximum number of animals per year in parentheses): disturbance associated with capture, observational studies, and scat collection (10,720 eastern DPS; 28,220 western DPS); and capture, restraint, tissue sampling, and marking (126 eastern DPS; 206 western DPS). NPUMMRC requests authorization for the annual research-related mortality of 2 eastern DPS pups, 2 western DPS pups during marking and 4 eastern DPS sea lions of any age, and 4 western DPS sea lions of any age during other studies. NPUMMRC also requests authorization for harassment of 15 northern fur seals, 5 California sea lions, 10 northern elephant seals, 60 harbor seals, and 5 killer whales (Orcinus orca) in AK annually incidental to the research on Steller sea lions.

In compliance with the National Environmental Policy Act of 1969 (42 U.S.C. 4321 et seq.), an initial determination has been made that the activities proposed are consistent with the Preferred Alternative in the Final Programmatic Environmental Impact Statement (PEIS) for Steller Sea Lion and Northern Fur Seal Research (NMFS 2007), and that issuance of the permits would not have a significant adverse impact on the human environment.

As established under the Preferred Alternative, NMFS proposes to authorize annual cumulative research-related mortality of up to 15 percent of the Potential Biological Removal levels for each stock. These annual allowances would include observed and unobserved mortalities, and be calculated based on the nature of the research. The numbers of research-related mortalities permitted may be higher or lower than those requested by the applicants.

Concurrent with the publication of this notice in the Federal Register, NMFS is forwarding copies of the applications to the Marine Mammal Commission and its Committee of Scientific Advisors.

Dated: May 7, 2009.
P. Michael Payne,
Chief, Permits, Conservation and Education Division, Office of Protected Resources, National Marine Fisheries Service.

[FR Doc. E9-11198 Filed 5-12-09; 8:45 am]

BILLING CODE 3510-22-S